DEPARTMENT OF TRANSPORTATION

Federal Aviation Administration

14 CFR Part 71

[Docket No. FAA-2022-0456; Airspace Docket No. 21-ASO-34]

RIN 2120-AA66

Amendment of Area Navigation (RNAV) Route Q-75; Eastern United States

AGENCY: Federal Aviation Administration (FAA), DOT.

ACTION: Final rule.

SUMMARY: This action amends Area Navigation (RNAV) route Q-75 to resolve similar sounding waypoint (WP) names and removes WPs and fixes that are not required for defining the route structure. Q-75 supports the Northeast Corridor Atlantic Coast Route Project.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2022-0456, in the Federal Register (87 FR 25159; April 28, 2022), amending RNAV route Q-75.

Interested parties were invited to participate in this rulemaking effort by submitting written comments on the proposal. Two comments were received.

RNAV routes are published in paragraph 2006 of FAA Order JO 7400.11F dated August 10, 2021, and effective September 15, 2021, which is incorporated by reference in 14 CFR 71.1. The RNAV routes listed in this document would be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Discussion of Comment

One commenter wrote in support of renaming the DUEYS, NY, Fix as the FARLE, NY, Fix. But, the commenter objected to the proposed removal of 11 fixes and WPs from the route legal description. The commenter believes that all points depicted on IFR En Route charts should be included in the regulatory description of the route.

The FAA does not agree. The part 71 legal description contains the points necessary to define the alignment of the route. These points consist of: the beginning and end points of the route; points where the route changes direction; holding fixes; and points required due to the maximum distance allowed between navigation aids, fixes, or WPs. The points being removed from the part 71 Q-75 legal description do not serve any of those purposes. However, they are still contained in the National Airspace System Resources Database and will continue to be depicted on the IFR En Route charts.

Another commenter asked about the financial cost of making the proposed changes to the route. The proposed WP name change is made to resolve a potential safety issue of misinterpreting similar sounding names during radio communications. This is an editorial change that is covered under the routine maintenance of the currency of aeronautical charts. These charts are published every 56 days. The points being removed are removed from the Q-75 14 CFR part 71 legal description only. Points that do not mark a turn point on a route are not required in the part 71 legal description. However, in this case, the points will still be maintained in the airspace data base, and will remain as currently shown on the IFR chart. Therefore, there is no cost involved in removing the points from the legal description.

The Rule

This action amends 14 CFR part 71 by amending RNAV route Q-75 as described below.

Q-75: Q-75 currently extends from the ENEME, GA, WP to the COPLY, MA, WP. This rule replaces the name “DUEYS, NY, Fix” with the name “FARLE, NY, Fix” for safety reasons. The current DUEYS Fix is located just 2.45 nautical miles from the DEEZZ, NY, Fix (which is located adjacent to, but not on, Q-75). The similar sounding pronunciation of the two fixes can lead to pilot/air traffic controller miscommunication. The latitude/longitude coordinates of the FARLE Fix remain the same as used for the DUEYS Fix, therefore this change does not affect the current charted alignment of Q-75. In addition, the FAA is removing a number of WPs and fixes from the description of Q-75, because they do not denote a route turn point and they are not required to be included in the Q-75 part 71 description. However, these points will continue to be depicted on the IFR En Route charts because they are used for air traffic control purposes. The affected WPs and fixes are: TEUFL, GA, WP; BROSK, NC, WP; DRAIK, VA, Fix; TOOBN, MD, WP; SACRI, MD, Fix; STOEN, PA, Fix; COPES, PA, Fix; BIGGY, NJ, Fix; JERSY, NJ, Fix; GREKI, CT, Fix; and SWALO, MA, Fix.

The full route description of Q-75 is listed in “The Amendment” section, below.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending RNAV route Q-75 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2006 United States Area Navigation Routes.

* * * * *

Q-75 ENEME, GA to COPLY, MA [Amended]
ENEME, GA | WP | (Lat. 30°42′12.09″ N, long. 082°26′09.31″ W)
TEEEM, GA | WP | (Lat. 32°08′41.20″ N, long. 081°54′50.57″ W)
SHRIL, GA | WP | (Lat. 32°54′42.21″ N, long. 081°34′09.78″ W)
FISHO, SC | WP | (Lat. 33°16′46.25″ N, long. 081°24′43.52″ W)
ILBEE, SC | WP | (Lat. 34°18′41.66″ N, long. 081°01′07.88″ W)
SLOJO, SC | WP | (Lat. 34°38′46.31″ N, long. 080°39′25.63″ W)
Greensboro, NC (GSO) | VORTAC | (Lat. 36°02′44.49″ N, long. 079°58′34.95″ W)
Gordonsville, VA (GVE) | VORTAC | (Lat. 38°00′48.96″ N, long. 078°09′10.90″ W)
HAMMZ, VA | WP | (Lat. 38°43′51.56″ N, long. 077°19′59.85″ W)
MURPH, MD | FIX | (Lat. 39°27′51.22″ N, long. 076°23′07.24″ W)
Modena, PA (MXE) | VORTAC | (Lat. 39°55′05.00″ N, long. 075°40′14.96″ W)
Solberg, NJ (SBJ) | VOR/DME | (Lat. 40°34′58.95″ N, long. 074°44′30.45″ W)
FARLE, NY | WP | (Lat. 41°09′09.46″ N, long. 073°47′48.52″ W)
BIZEX, NY | WP | (Lat. 41°17′02.86″ N, long. 073°34′50.20″ W)
NELIE, CT | FIX | (Lat. 41°56′27.64″ N, long. 072°41′18.88″ W)
Boston, MA (BOS) | VOR/DME | (Lat. 42°21′26.82″ N, long. 070°59′22.37″ W)
COPLY, MA | WP | (Lat. 42°29′52.21″ N, long. 070°33′28.57″ W)

* * * * *

Issued in Washington, DC, on June 21, 2022.
Scott M. Rosenbloom,
Manager, Airspace Rules and Regulations.

[FR Doc. 2022-13580 Filed 6-27-22; 8:45 am]

BILLING CODE 4910-13-P